DEPARTMENT OF ENERGY

Federal Energy Regulatory Commission

[Docket No. ER03-256-004, et al.]

TXU Pedricktown Cogeneration Company LP, et al.; Electric Rate and Corporate Filings

March 11, 2005.

The following filings have been made with the Commission. The filings are listed in ascending order within each docket classification.

1. TXU Pedricktown Cogeneration Company LP

[Docket No. ER03-256-004]

Take notice that on March 8, 2005, TXU Pedricktown Cogeneration Company LP (TXU Pedricktown) tendered for filing a compliance filing consisting of its triennial market power update and its third revised market-based rate schedule reflecting the incorporation of the reporting requirement adopted by the Commission in Order No. 652 issued February 10, 2005, Reporting Requirement for Changes in Status for Public Utilities with Market-Based Rate Authority, 110 FERC ¶ 61,097 (2005).

Comment Date: 5 p.m. eastern time on March 29, 2005.

2. FirstEnergy Solutions Corp.

[Docket No. ER04-652-003]

Take notice that on March 8, 2005, FirstEnergy Solutions Corp. (Solutions) submitted revisions to Service Schedule A-Reactive Supply and Voltage Control from Generation Sources Service under its tariff for sales of ancillary services and interconnected operations services in compliance with the Commission's order issued February 14, 2005 in Docket No. ER05-652-002, et al., 110 FERC ¶ 61,142.

Comment Date: 5 p.m. eastern time on March 29, 2005.

3. Tucson Electric Power Company and UNS Electric, Inc.

[Docket No. ER05-610-001]

Take notice that on March 8, 2005, Tucson Electric Power Company and UNS Electric Inc. tendered for filing revised tariff sheets as an addendum to their joint February 18, 2005 compliance filing in Docket No. ER05-610-000.

Comment Date: 5 p.m. eastern time on March 29, 2005.

4. WPS Energy Services, Inc.

[Docket No. ER05-686-000]

Take notice that on March 8, 2005, WPS Energy Services, Inc. (ESI) tendered for filing a Notice of Cancellation of the brokering and dispatch agreement between ESI and Sunbury Generation, LLC (Sunbury). ESI requests an effective date of December 31, 2004.

ESI states that copies of the filing were served upon Sunbury.

Comment Date: 5 p.m. eastern time on March 29, 2005.

5. Total Gas & Electricity (PA), Inc.

[Docket Nos. ER05-687-000]

Take notice that on March 8, 2005, Total Gas & Electricity (PA), Inc. (TG&E PA) tendered for filing a petition for acceptance of TG&E PA's proposed FERC Rate Schedule No. 1; waiver of certain requirements under Subparts B and C of Part 35 of the regulations; and the granting of blanket approvals normally accorded to sellers at market-based rates. TG&E PA states that it intends to act as a power marketer and that it and its affiliates do not own or control any electric generation facilities, transmission facilities, or any inputs to generation and does not have any franchised electric utility affiliates.

Comment Date: 5 p.m. eastern time on March 29, 2005.

6. Southwest Power Pool, Inc.

[Docket No. ER05-688-000]

Take notice that on March 8, 2005, Southwest Power Pool, Inc. (SPP) submitted for filing a letter agreement between Southwestern Public Service Company d/b/a Xcel Energy (Xcel) and Wildorado Wind, LP (Wildorado) (collectively, Parties) providing for the performance of certain engineering and design activities by Xcel and the payment for such activities by Wildorado relating to the proposed interconnection of a generating facility to be owned and constructed by Wildorado. SPP states that while it is not a party to the letter agreement, it is submitting the letter agreement on behalf of the Parties as the relevant Transmission Provider. SPP seeks an effective date of February 14, 2005.

Comment Date: 5 p.m. eastern time on March 29, 2005.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please e-mail FERCOnlineSupport@ferc.gov, or call (866) 208-3676 (toll free). For TTY, call (202) 502-8659.

Linda Mitry,
Deputy Secretary.

[FR Doc. E5-1180 Filed 3-17-05; 8:45 am]

BILLING CODE 6717-01-P